DEPARTMENT OF TRANSPORTATION

Office of the Secretary

[Docket OST-03-15863]

In the Matter of the Notice of Substantial Change in Ownership Filed Under 14 CFR 204.5 by ABX Air, Inc.

AGENCY: Department of Transportation.

ACTION: Notice seeking comments.

SUMMARY: The Department of Transportation is directing ABX Air, Inc., to file in the noted docket a copy of the public material that it submitted to the Department on July 15, 2003, with its notice of substantial change. Interested persons are invited to file comments on the procedures the Department should use in conducting its review of the proposed substantial change in ownership and operations on the citizenship of ABX Air, Inc.

DATES: ABX Air, Inc., should file the material at issue within 7 calendar days of the Notice. Public comments on the procedures will be due within 21 days thereafter. Comments should address only the issue of how the Department should proceed with its review, not the merits of the case.

ADDRESSES: All comments should be filed in Docket OST-03-15863 and addressed to Department of Transportation Dockets (M-30, Room PL-401), U.S. Department of Transportation, 400 Seventh Street, SW., Washington, DC 20590.

FOR FURTHER INFORMATION CONTACT: Ms. Janet A. Davis, Air Carrier Fitness Division (X-56, Room 6401), U.S. Department of Transportation, 400 Seventh Street, SW., Washington, DC 20590, (202) 366-9721.

Dated: August 6, 2003.
Michael W. Reynolds,
Acting Assistant Secretary for Aviation and International Affairs.

[FR Doc. 03-20470 Filed 8-11-03; 8:45 am]

BILLING CODE 4910-62-P